DEPARTMENT OF ENERGY

Federal Energy Regulatory Commission

[Docket No. RP05-157-001]

Saltville Gas Storage Company L.L.C.; Notice of Negotiated Rate Filing

March 2, 2005.

Take notice that on February 22, 2005, Saltville Gas Storage Company L.L.C. (Saltville) tendered for filing negotiated rate transactions: A Firm Storage Service Agreement with Carolina Power & Light Company (CP&L) for Summer service pursuant to Saltville's Rate Schedule FSS; a Firm Storage Service Agreement with CP&L pursuant to Saltville's Rate Schedule FSS; a Firm Storage Service Agreement with Elk River Public Utility District (Elk River) pursuant to Saltville's Rate Schedule FSS; a Firm Storage Service Agreement with Elk River pursuant to Saltville's Rate Schedule FSS; a Firm Storage Service Agreement with NUI Energy Brokers, Inc. (NUIEB) pursuant to Saltville's Rate Schedule FSS; a Firm Storage Service Agreement with Washington Gas Light Company (WGL) pursuant to Saltville's Rate Schedule FSS; an Interruptible Loan Service Agreement with Constellation Energy Commodities Group, Inc. (Constellation) pursuant to Saltville's Rate Schedule ILS; an Interruptible Storage Service Agreement with Constellation pursuant to Saltville's Rate Schedule ISS; an Interruptible Storage Service Agreement with Duke Energy Marketing America, L.L.C. (DEMA) pursuant to Saltville's Rate Schedule ISS; and an Interruptible Storage Service Agreement with Eagle Energy Partners I, L.P. (Eagle) pursuant to Saltville's Rate Schedule ISS (collectively, the Service Agreements).

Saltville states that the purpose of this filing is to implement negotiated rate agreements for services rendered by its Saltville, Virginia gas storage facility. Saltville requests an effective date of January 1, 2005 for the firm Service Agreements and an effective date of November 22, 2004 for the interruptible Service Agreements as detailed in its filing. In addition, Saltville requests that the Commission grant any authorizations and waivers of the Commission's regulations that are necessary to permit the service agreements to be made effective as proposed.

Saltville states that copies of the filing were mailed to all affected customers of Saltville and interested state commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Linda Mitry,
Deputy Secretary.

[FR Doc. E5-939 Filed 3-7-05; 8:45 am]

BILLING CODE 6717-01-P